INTERNATIONAL TRADE COMMISSION

[Investigation No. 337-TA-615]

In the Matter of: Certain Ground Fault Circuit Interrupters and Products Containing Same; Notice of Commission Determination To Extend the Deadline for Receiving Written Submissions on Remedy, the Public Interest and Bonding; Extension of Target Date

AGENCY: U.S. International Trade Commission.

ACTION: Notice.

SUMMARY: Notice is hereby given that the U.S. International Trade Commission has determined to extend the deadline for receiving written submissions on remedy, the public interest, and bonding until two weeks from the date of issuance of the public version of the presiding administrative law judge's (ALJ) recommended determination on remedy and bonding (“RD”) and to extend the target date for completion of the above-captioned investigation by thirty (30) days to Friday, March 6, 2009.

FOR FURTHER INFORMATION CONTACT: Paul M. Bartkowski, Office of the General Counsel, U.S. International Trade Commission, 500 E Street, SW., Washington, DC 20436, telephone (202) 708-5432. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on September 18, 2007, based on a complaint filed by Pass & Seymour, Inc. (“P&S”) of Syracuse, New York. The complaint, as supplemented, alleged violations of section 337 of the Tariff Act of 1930 (19 U.S.C. **1337) in the importation into the United States, the sale for importation, and the sale within the United States after importation of certain ground fault circuit interrupters and products containing the same by reason of infringement of certain claims of certain United States patents. The complaint named 15 respondents: General Protecht Group, Inc. (“GPG”) of Zhejiang, China; General Protecht Group U.S., Inc. of Atlanta, Georgia; Shanghai ELE Manufacturing Corporation (“ELE”) of Shanghai, China; Shanghai Meihao Electric, Inc. (“Meihao”) of Shanghai, China; Wenzhou Trimone Company (“Trimone”) of Zhejiang, China; Cheetah USA Corp. (“Cheetah”) of Sandy, Utah; GX Electric (“GX”) of Pompano Beach, Florida; Nicor Inc. (“Nicor”) of Albuquerque, New Mexico; Orbit Industries, Inc. (“Orbit”) of Los Angeles, California; The Designer's Edge (“TDE”) of Bellevue, Washington; Universal Security Instruments, Inc. (“USI”) of Owings Mills, Maryland; Colacino Electric Supply, Inc. (“Colacino”) of Newark, New York; Ingram Products, Inc. of Jacksonville, Florida; Lunar Industrial & Electrical, Inc. of Miami, Florida; and Quality Distributing, LLC. (“Quality”) of Hillsboro, Oregon.

On September 24, 2008, the ALJ issued his final ID, finding a violation with respect to each patent by each remaining respondent. The ALJ issued his recommended determination on remedy and bonding (RD) on October 8, 2008. Respondents ELE (in a joint brief with its respondent customers Cheetah, Colacino, Orbit, and Nicor), Meihao (in a joint brief with its respondent customer TDE), GPG, and Trimone each filed a petition for review of the ID. P&S and the Commission investigative attorney (“IA”) each filed a response to the respondents' petitions for review. On December 8, 2008, after considering the petitions for review and the responses thereto, the Commission determined to review the ALJ's ID in part. The Commission requested written submissions on certain issues relating to violation as well as remedy, the public interest, and bonding. The Commission set a deadline of December 22, 2008, for written submissions, and December 31, 2008, for reply submissions thereon.

In light of the fact that the ALJ has not yet issued a public version of his RD, the Commission has determined to extend the deadline for receiving initial written submissions on remedy, the public interest, and bonding until two weeks from the date of issuance of the public version of the ALJ's RD. Complainants and the IA are also requested to submit proposed remedial orders for the Commission's consideration by the extended deadline. The Commission has also determined to extend the deadline for reply submissions on remedy, the public interest, and bonding until ten (10) days after the filing date of the initial written submissions. This extension does not affect the due dates for the parties' written submissions on issues relating to violation of section 337.

Persons filing written submissions must file the original document and 12 true copies thereof on or before the deadlines stated above with the Office of the Secretary. Any person desiring to submit a document to the Commission in confidence must request confidential treatment unless the information has already been granted such treatment during the proceedings. All such requests should be directed to the Secretary of the Commission and must include a full statement of the reasons why the Commission should grant such treatment. See 19 CFR 210.6. Documents for which confidential treatment by the Commission is sought will be treated accordingly. All nonconfidential written submissions will be available for public inspection at the Office of the Secretary.

The Commission has also determined to extend the target date for completion of the above-referenced investigation by thirty (30) days, to March 6, 2009.

The authority for the Commission's determination is contained in section 337 of the Tariff Act of 1930, as amended (19 U.S.C. 1337), and in section 210.51(a) of the Commission's Rules of Practice and Procedure (19 CFR 210.51(a)).

Issued: December 19, 2008.
By order of the Commission.
Marilyn R. Abbott,
Secretary to the Commission.

[FR Doc. E8-31104 Filed 12-30-08; 8:45 am]

BILLING CODE 7020-02-P